DEPARTMENT OF HEALTH AND HUMAN SERVICES

National Institutes of Health

National Institute of Allergy and Infectious Diseases; Notice of Meetings

Pursuant to section 1009 of the Federal Advisory Committee Act, as amended, notice is hereby given of meetings of the National Advisory Allergy and Infectious Diseases Council.

The meeting will be open to the public. The open sessions will be videocast and can be accessed from the NIH Videocasting and Podcasting website (http://videocast.nih.gov). Individuals who plan to attend and need special assistance, such as sign language interpretation or other reasonable accommodations, should notify the Contact Person listed below in advance of the meeting.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Advisory Allergy and Infectious Diseases Council.

Date: September 25, 2025.

Closed: 8:30 a.m. to 10:30 a.m.

Agenda: To review and evaluate grant applications.

Address: National Institute of Allergy and Infectious Diseases, National Institutes of Health, 5601 Fishers Lane, Grand Hall, Rockville, MD 20892 (Video Assisted Meeting).

Open: 10:30 a.m. to 11:45 a.m.

Agenda: Reports from NIAID Acting Director and NIH Director.

Address: National Institute of Allergy and Infectious Diseases, National Institutes of Health, 5601 Fishers Lane, Grand Hall, Rockville, MD 20892 (Video Assisted Meeting).

Contact Person: Kelly Y. Poe, Ph.D., Director, Division of Extramural Activities, National Institute of Allergy and Infectious Diseases, National Institutes of Health, 5601 Fishers Lane, Room 3F41, Bethesda, MD 20892-9834, (240) 669-5036, poeky@mail.nih.gov.

Name of Committee: National Advisory Allergy and Infectious Diseases Council, Division of AIDS Subcommittee.

Date: September 25, 2025.

Open: 1:00 p.m. to 4:30 p.m.

Agenda: Reports from Division Director and Division Staff.

Address: National Institute of Allergy and Infectious Diseases, National Institutes of Health, 5601 Fishers Lane, Grand Hall, Rockville, MD 20892 (Video Assisted Meeting).

Contact Person: Kelly Y. Poe, Ph.D., Director, Division of Extramural Activities, National Institute of Allergy and Infectious Diseases, National Institutes of Health, 55601 Fishers Lane, Room 3F41, Bethesda, MD 20892-9834, (240) 669-5036, poeky@mail.nih.gov.

Name of Committee: National Advisory Allergy and Infectious Diseases Council, Division of Microbiology and Infectious Diseases.

Open: 1:00 p.m. to 4:20 p.m.

Agenda: Reports from Division Director and Division Staff.

Address: National Institute of Allergy and Infectious Diseases, National Institutes of Health, 5601 Fishers Lane, Garden Room 2, Rockville, MD 20892 (Video Assisted Meeting).

Contact Person: Kelly Y. Poe, Ph.D., Director, Division of Extramural Activities, National Institute of Allergy and Infectious Diseases, National Institutes of Health, 5601 Fishers Lane, Room 3F41, Bethesda, MD 20892-9834, (240) 669-5036, poeky@mail.nih.gov.

Name of Committee: National Advisory Allergy and Infectious Diseases Council, Division of Microbiology and Infectious Diseases Subcommittee.

Open: 1:00 p.m. to 4:30 p.m.

Agenda: Reports from Division Directors and Division Staff.

Address: National Institute of Allergy and Infectious Diseases, National Institutes of Health, 5601 Fishers Lane, Garden Room 1, Rockville, MD 20892 (Video Assisted Meeting).

Contact Person: Kelly Y. Poe, Ph.D., Director, Division of Extramural Activities, National Institute of Allergy and Infectious Diseases, National Institutes of Health, 5601 Fishers Lane, Room 3F41, Bethesda, MD 20892-9834, (240) 669-5036. poeky@mail.nih.gov.

Information is also available on the Institute's/Center's home page: https://www.niaid.nih.gov/about/advisory-council, where an agenda and any additional information for the meeting will be posted when available.

(Catalogue of Federal Domestic Assistance Program Nos. 93.855, Allergy, Immunology, and Transplantation Research; 93.856, Microbiology and Infectious Diseases Research, National Institutes of Health, HHS)

Dated: July 15, 2025.
Bruce A. George,
Program Analyst, Office of Federal Advisory Committee Policy.

[FR Doc. 2025-13435 Filed 7-16-25; 8:45 am]

BILLING CODE 4140-01-P